DEPARTMENT OF JUSTICE

Bureau of Justice Assistance

[OJP(BJA)-1343]

Announcement of the Availability of the State Criminal Alien Assistance Program for FY 2002

AGENCY: Office of Justice Programs, Bureau of Justice Assistance, Justice.

ACTION: Notice of solicitation.

SUMMARY: Announcement of the availability of the Bureau of Justice Assistance (BJA) State Criminal Alien Assistance Program (SCAAP) funding for FY 2002.

DATES: Applicant account registration through an Internet-based system begins on January 3, 2002 and continues until February 1, 2002. Submission of applications begins on January 3, 2002 and continues until February 1, 2002.

ADDRESS: Bureau of Justice Assistance, 810 Seventh Street, NW, Washington, DC 20531.

FOR FURTHER INFORMATION CONTACT: For SCAAP program guidance and technical assistance, please log on to the Bureau of Justice Assistance Home Page at: http://www.ojp.usdoj.gov/BJA and select “SCAAP” or call the Office of Justice Programs Grants Management System Hotline at 1-888-549-9901, Option #4. For general information about online application procedures for other solicitations, please call the U.S. Department of Justice Response Center 1-800-421-6770.

SUPPLEMENTARY INFORMATION:

Authority

This action is authorized under the Omnibus Crime Control and Safe Streets Act of 1968, sections 201-03, as amended, 42 U.S.C. 3721-23 (1994).

Background

SCAAP provides Federal assistance to states and units of general government for costs incurred for the imprisonment of undocumented criminal aliens, who are charged or convicted of one felony or two misdemeanor offenses. Potential applicants may no longer submit hard copy application forms and diskettes. For FY 2002, state and local governments apply for payment via a paperless, electronic, end-to-end distributive, Internet-based web-site application. BJA anticipates providing over 490 payments of varying amounts from a FY2002 funding total of approximately $550 million.

Potential applicants with questions should call the Office of Justice Programs Grants Management System Hotline at 1-888-549-9901, Option #4. For access to program guidance and the online application, connect to http://www.ojp.usdoj.gov/BJA and select “SCAAP”

Dated: December 5, 2001.
Richard R. Nedelkoff,
Director, Bureau of Justice Assistance.

[FR Doc. 01-30456 Filed 12-7-01; 8:45 am]

BILLING CODE 4410-10-P